DEPARTMENT OF ENERGY

Federal Energy Regulatory Commission

[Project No. 3472-024]

Aspinook Hydro, LLC; Notice of Application Accepted for Filing and Soliciting Motions To Intervene and Protests

Take notice that the following hydroelectric application has been filed with the Commission and is available for public inspection.

a. Type of Application: New Major License.

b. Project No.: 3472-024.

c. Date filed: April 30, 2020.

d. Applicant: Aspinook Hydro, LLC.

e. Name of Project: Wyre Wynd Hydroelectric Project.

f. Location: On the Quinebaug River in New London and Windham Counties, Connecticut. No federal lands are occupied by the project works or located within the project boundary.

g. Filed Pursuant to: Federal Power Act 16 U.S.C. 791(a)-825(r).

h. Applicant Contact: Mark Boumansour, Chief Operating Officer, Gravity Renewables, Inc., 1401 Walnut Street, Boulder, CO 80302; Phone at (303) 440-3378, or email at mark@gravityrenewables.com.

i. FERC Contact: Kristine Sillett at (202) 502-6575, or kristine.sillett@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3472-024.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. The existing Wyre Wynd Project consists of: (1) A concrete-encased masonry dam that includes: (a) A 473-foot-long, 18-foot-high spillway with 2-foot-high wooden flashboards, and one, 5-foot-wide by 3-foot-high sluice gate; (b) a 100-foot-long left abutment that includes a 65-foot-wide headgate structure with five, 10-foot-wide by 12-foot-high headgates; and (c) a 4-foot-long right abutment; (2) a 333-acre impoundment with a usable storage capacity of 167-acre-feet at a normal elevation of 97.3 feet National Geodetic Vertical Datum of 1929; (3) a 170-foot-long, 50-foot-wide forebay that includes: (a) A 60-foot-long, 10-foot-high auxiliary spillway; and (b) two, 10-foot-wide by 12-foot-high arched-top low-level outlet gates; (4) a powerhouse intake structure located at the downstream end of the forebay that includes: (a) A 37-foot-high steel trash rack structure varying in width from 19.5 feet to 21.3 feet, with a clear bar spacing of 2.6 inches; and (b) a 16-foot-long, 12-foot-diameter steel penstock that supplies flow to the main 2.7-megawatt (MW) S-type Kaplan turbine-generator unit housed within the 30-foot-wide, 100-foot-long concrete powerhouse; (5) a 450-foot-long, 50-foot-wide tailrace that receives discharges from the main turbine-generator unit; (6) a second intake structure branching off of the right side of the forebay, approximately 35 feet downstream of the headgate structure, that includes: (a) A 4-foot-wide by 4-foot-high head gate; (b) a 9-foot-wide by 20-foot-high trash rack structure with 1.5-inch clear bar spacing that extends from the floor of the headgate structure to approximately 12 feet below the forebay water surface; and (c) a 40-foot-long, 4-foot-diameter steel penstock that provides flow to a mini, in-line 0.08-MW fixed-blade propeller turbine-generator unit; (7) a 10-foot-long, 30-foot-wide tailrace that receives discharges from the mini turbine-generator unit; (8) an 80-foot-long, 600-volt transmission line that connects the generators to the local utility distribution system; and (9) appurtenant facilities. The project creates an approximately 400-foot-long bypassed reach of the Quinebaug River.

The current license requires an instantaneous minimum flow of 120 cubic feet per second (cfs), or inflow, whichever is less, downstream from the dam to protect fish and wildlife resources in the Quinebaug River.

The project generates an average of 11,000 megawatt-hours annually (estimate based on generation from 2003 through 2015).

Aspinook Hydro proposes to: (1) Operate the project in a run-of-river mode; (2) provide an 84-cfs minimum flow to the bypassed reach; and (3) provide upstream and downstream fish passage.

m. A copy of the application is available for review via the internet through the Commission's Home Page (http://www.ferc.gov), using the eLibrary link. Enter the docket number, excluding the last three digits in the docket number field, to access the document. At this time, the Commission has suspended access to the Commission's Public Reference Room due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title PROTEST, or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments November 2020

Comments on Scoping Document 1 January 2021

Request Additional Information (if necessary) February 2021

Issue Scoping Document 2 February 2021

Issue Notice of Ready for Environmental Analysis March 2021

Final amendments to the application must be filed with the Commission no later than 30 days from the issuance date of the notice of ready for environmental analysis.

Dated: November 18, 2020.
Nathaniel J. Davis, Sr.,
Deputy Secretary.

[FR Doc. 2020-25923 Filed 11-23-20; 8:45 am]

BILLING CODE 6717-01-P